DEPARTMENT OF COMMERCE

National Oceanic and Atmospheric Administration

RIN 0648-XW51

Marine Mammals; File No. 15537

AGENCY: National Marine Fisheries Service (NMFS), National Oceanic and Atmospheric Administration (NOAA), Commerce.

ACTION: Notice; receipt of application.

SUMMARY: Notice is hereby given that Institute for Marine Mammal Studies (IMMS), P.O. Box 207, Gulfport, MS 39502 (Dr. Moby Solangi, Responsible Party), has applied in due form for a permit to obtain stranded, releasable California sea lions (Zalophus californianus) from the National Marine Mammal Stranding Response Program for the purposes of public display.

DATES: Written or telefaxed comments must be received on or before June 21, 2010.

ADDRESSES: The application and related documents are available for review upon written request or by appointment in the following offices:

Permits, Conservation and Education Division, Office of Protected Resources, NMFS, 1315 East-West Highway, Room 13705, Silver Spring, MD 20910; phone (301) 713-2289; fax (301) 713-0376; and

Southeast Region, NMFS, 263 13th Avenue South, Saint Petersburg, FL 33701; phone (727) 824-5312; fax (727) 824-5309.

Written comments on this application should be submitted to the Chief, Permits, Conservation and Education Division, at the address listed above. Comments may also be submitted by facsimile to (301) 713-0376, or by email to NMFS.Pr1Comments@noaa.gov. Please include the File No. in the subject line of the email comment.

FOR FURTHER INFORMATION CONTACT: Jennifer Skidmore or Amy Sloan, (301) 713-2289.

SUPPLEMENTARY INFORMATION: The subject permit is requested under the authority of the Marine Mammal Protection Act of 1972, as amended (16 U.S.C. 1361 et seq.), and the regulations governing the taking and importing of marine mammals (50 CFR part 216).

The applicant is requesting a permit to take releasable stranded California sea lions (two males and six females) from west coast stranding facilities for public display purposes. IMMS is the only marine mammal public display facility in the states of Mississippi and Alabama. The receiving facility, IMMS is: (1) open to the public on regularly scheduled basis with access that is not limited or restricted other than by charging for an admission fee; (2) offers an educational program that is consistent with professional recognized standards of informal education in aquaria and zoos across America, including the Association of Zoos and Aquariums; and (3) holds an Exhibitor's License, number 65-C-0540, issued by the U.S. Department of Agriculture under the Animal Welfare Act (7 U.S.C. §§ 2131-59). IMMS will also consider non-releasable sea lions and each animal will be evaluated on a case by case basis. The permit is requested for five years.

In addition to determining whether the applicant meets the three public display criteria, NMFS must determine whether the applicant has demonstrated that the proposed activity is humane and does not represent any unnecessary risks to the health and welfare of marine mammals; that the proposed activity by itself, or in combination with other activities, will not likely have a significant adverse impact on the species or stock; and that the applicant's expertise, facilities and resources are adequate to accomplish successfully the objectives and activities stated in the application.

Concurrent with the publication of this notice in the Federal Register, NMFS is forwarding copies of this application to the Marine Mammal Commission and its Committee of Scientific Advisors.

Dated: May 14, 2010.
P. Michael Payne,
Chief, Permits, Conservation and Education Division, Office of Protected Resources, National Marine Fisheries Service.

[FR Doc. 2010-12123 Filed 5-19-10; 8:45 am]

BILLING CODE 3510-22-S